DEPARTMENT OF COMMERCE

Bureau of Industry and Security

15 CFR Part 744

[Docket No. 230614-0149]

RIN 0694-AJ24

Additions of Entities to the Entity List and Removal of Entity From the Entity List; Correction

AGENCY: Bureau of Industry and Security, Department of Commerce.

ACTION: Correcting amendment.

SUMMARY: The Department of Commerce is amending the Export Administration Regulations (EAR) by adding an inadvertently omitted entity to the Entity List.

DATES: This correcting amendment is effective June 16, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION: As stated in the Entity List rule titled “Additions of Entities to the Entity List and Removal of Entity from the Entity List” (June 14 Rule) (88 FR 38739), the End-User Review Committee (ERC) determined to add certain entities under the destination of China, including China Aviation Development Harbin Bearing Co., Ltd., to the Entity List for acquiring and attempting to acquire U.S.-origin items in support of China's military modernization. This activity is contrary to U.S. national security and foreign policy interests under § 744.11 of the EAR. As detailed in the June 14 Rule, licenses are required for all items subject to the EAR to these entities, and license applications will be reviewed under a presumption of denial. Further, in the June 14 Rule, the Bureau of Industry and Security (BIS) included an entity in the preamble justification but inadvertently did not instruct, nor provide regulatory text for, the addition of the entity to the Entity List. This correcting amendment amends the EAR by making the addition to the Entity List for this omitted entity.

For the reasons described above, this correcting amendment adds the following entity to the Entity List and includes, where appropriate, aliases:

China

• China Aviation Development Harbin Bearing Co., Ltd.

Savings Clause

For the changes being made in this correcting amendment, shipments of items removed from eligibility for a License Exception or export, reexport, or transfer (in-country) without a license (NLR) as a result of this regulatory action that were en route aboard a carrier to a port of export, reexport, or transfer (in-country), on June 16, 2023, pursuant to actual orders for export, reexport, or transfer (in-country) to or within a foreign destination, may proceed to that destination under the previous eligibility for a License Exception or export, reexport, or transfer (in-country) without a license (NLR) before July 17, 2023. Any such items not actually exported, reexported, or transferred (in-country) before midnight, on July 17, 2023, require a license in accordance with this correcting amendment.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is corrected by making the following correcting amendment:

PART 744—CONTROL POLICY: END-USER AND END-USE BASED

1. The authority citation for 15 CFR part 744 is continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement no. 4 to part 744 is amended under CHINA, PEOPLE'S REPUBLIC OF, by adding, in alphabetical order, an entry for “China Aviation Development Harbin Bearing Co., Ltd.” to read as follows:

Supplement No. 4 to Part 744—Entity List

* * * * *

Country | Entity | License requirement | License review policy | Federal Register Citation
* * * * * * *
CHINA, PEOPLE'S REPUBLIC OF
* * * * * * *
| China Aviation Development Harbin Bearing Co., Ltd., a.k.a. the following three aliases: | For all items subject to the EAR. (See § 744.11 of the EAR) | Presumption of denial | 88 FR [INSERT FR PAGE NUMBER] 6/21/2023.
| —AVIC Harbin Bearing;
| —Harbin AVIC Bearing Co Ltd; and
| —AviChina Harbin Bearing
| No. 888 Nanjing Road, Hulan District, Harbin (New District Trust Handling Area), China; and No. 81, East Wujinnan Road, Xilong Street, Harbin, China; and North Side of Traffic Management Office, Linxi County, Xingtai City, Hebei Province, China.
* * * * * * *

* * * * *

Matthew S. Borman,
Deputy Assistant Secretary for Export Administration.

[FR Doc. 2023-13196 Filed 6-16-23; 8:45 am]

BILLING CODE 3510-33-P